DEPARTMENT OF AGRICULTURE

Animal and Plant Health Inspection Service

9 CFR Part 78

[Docket No. 04-103-2]

Brucellosis in Swine; Add Arkansas, Louisiana, and Michigan to List of Validated Brucellosis Free States

AGENCY: Animal and Plant Health Inspection Service, USDA.

ACTION: Affirmation of interim rule as final rule.

SUMMARY: We are adopting as a final rule, without change, an interim rule that amended the brucellosis regulations concerning the interstate movement of swine by adding Arkansas, Louisiana, and Michigan to the list of validated brucellosis-free States. That action was necessary to relieve certain restrictions on the interstate movement of breeding swine from Arkansas and Louisiana and to confirm Michigan's status as a validated brucellosis-free State.

EFFECTIVE DATE: The interim rule became effective on November 18, 2004.

FOR FURTHER INFORMATION CONTACT: Dr. John Korslund, Staff Veterinarian (Swine Health), Eradication and Surveillance Team, National Center for Animal Health Programs, VS, APHIS, 4700 River Road Unit 43, Riverdale, MD 20737-1231; (301) 734-5914.

SUPPLEMENTARY INFORMATION:

Background

Brucellosis is a contagious disease caused by bacteria of the genus Brucella. The disease mainly affects cattle, bison, and swine, but goats, sheep, horses, and even humans are susceptible. In its principal animal hosts, it causes loss of young through spontaneous abortion or birth of weak offspring, reduced milk production, and infertility. There is no economically feasible treatment for brucellosis in livestock. In humans, brucellosis initially causes flu-like symptoms, but the disease may develop into a variety of chronic conditions, including arthritis. Humans can be treated for brucellosis with antibiotics.

The brucellosis regulations in 9 CFR part 78 (referred to below as the regulations) contain specific provisions for cattle, bison, and swine. Under the regulations, States, herds, and individual animals are classified according to their brucellosis status. Interstate movement requirements for animals are based upon the disease status of the individual animals or the herd or State from which the animal originates.

In an interim rule effective and published in the Federal Register on November 18, 2004 (69 FR 67501-67503, Docket No. 04-103-1), we amended § 78.43 of the regulations by adding Arkansas, Louisiana, and Michigan to the list of validated brucellosis-free States.

Comments on the interim rule were required to be received on or before January 18, 2005. We received one comment by that date, from a private citizen. The commenter stated that all interstate movement of swine should be banned and that if living conditions for swine were raised, swine would be more resistant to diseases such as brucellosis. The commenter further objected to the use of taxpayer funds for the brucellosis program and to the use of the term “depopulated.” As this comment has no bearing on the action taken in the interim rule (i.e., the addition of Arkansas, Louisiana, and Michigan to the list of validated swine brucellosis-free States), no changes to the interim rule are indicated.

Therefore, for the reasons given in the interim rule and in this document, we are adopting the interim rule as a final rule without change.

This action also affirms the information contained in the interim rule concerning Executive Order 12866 and the Regulatory Flexibility Act, Executive Orders 12372 and 12988, and the Paperwork Reduction Act.

Further, for this action, the Office of Management and Budget has waived its review under Executive Order 12866.

List of Subjects in 9 CFR Part 78

Animal diseases, Bison, Cattle, Hogs, Quarantine, Reporting and recordkeeping requirements, Transportation.

PART 78—BRUCELLOSIS

Accordingly, we are adopting as a final rule, without change, the interim rule that amended 9 CFR part 78 and that was published at 69 FR 67501-67503 on November 18, 2004.

Done in Washington, DC, this 10th day of February 2005.
Elizabeth E. Gaston,
Acting Administrator, Animal and Plant Health Inspection Service.

[FR Doc. 05-2967 Filed 2-15-05; 8:45 am]

BILLING CODE 3410-34-P